DEPARTMENT OF ENERGY

Request for Information To Inform the Interagency Working Group on Coal and Power Plant Communities and Economic Revitalization; Reopening of Comment Period

AGENCY: National Energy Technology Laboratory (NETL), Department of Energy (DOE).

ACTION: Request for information (RFI); reopening of public comment period.

SUMMARY: On June 10, 2022, NETL, on behalf of DOE, issued a Request for Information in the Federal Register seeking public comment on the Interagency Working Group on Coal and Power Plant Communities and Economic Revitalization (Interagency Working Group). The information requested will help inform the efforts of the Interagency Working Group. Comments were due by August 9, 2022. Prior to the end of the comment period for the request for information, DOE received requests from stakeholders in that region to extend the public comment period to focus on recovery due to severe flooding in Eastern Kentucky. The Interagency Working Group is reopening its public comment period by 30 days. Public comments will now be accepted through September 8, 2022.

DATES: Interested persons are invited to submit responses by September 8, 2022.

ADDRESSES: Comments can be submitted via the internet at: https://energycommunities.gov/comment.

FOR FURTHER INFORMATION CONTACT: Dr. Briggs White, Deputy Executive Director, Energy Communities IWG, (412) 386-7546.

Questions may be addressed to briggswhite@energycommunities.gov.

SUPPLEMENTARY INFORMATION: NETL, on behalf of DOE, published a Request for Information (RFI) seeking input from the public on the Interagency Working Group on Coal and Power Plant Communities and Economic Revitalization (Interagency Working Group). 87 FR 35535. Specifically, the RFI requested comments on the challenges facing energy communities, measures to address those needs, and recommendations for the Federal Government to consider. DOE requested submission of written comments by August 9, 2022.

On July 29, the Blue Green Alliance shared that several stakeholders in Appalachia would like to see the comment deadline delayed given that they are dealing with the flooding—they did not request a specific period for the extension. The comment period for the RFI closed on August 9, 2022. After carefully considering this request, NETL, on behalf of DOE, has determined that a reopening of the comment period to allow additional time for interested parties to submit comments is appropriate. Therefore, NETL, on behalf of DOE, is reopening the comment period and will accept comments until September 8, 2022. Accordingly, NETL, on behalf of DOE, will consider any comments received by this date, to be timely submitted.

Signing Authority

This document of the Department of Energy was signed on August 5, 2022, by Brian J. Anderson, Ph.D., Executive Director, Interagency Working Group on Coal and Power Plant Communities and Economic Revitalization and Director, National Energy Technology Laboratory (NETL), pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on August 5, 2022.
Treena V. Garrett,
Federal Register Liaison Officer, U.S. Department of Energy.

[FR Doc. 2022-17212 Filed 8-10-22; 8:45 am]

BILLING CODE 6450-01-P